DEPARTMENT OF TRANSPORTATION

Federal Aviation Administration

14 CFR Part 39

[Docket No. FAA-2019-0523; Product Identifier 2019-NM-050-AD; Amendment 39-19768; AD 2019-21-02]

RIN 2120-AA64

Airworthiness Directives; Airbus SAS Airplanes

AGENCY: Federal Aviation Administration (FAA), Department of Transportation (DOT).

ACTION: Final rule.

SUMMARY: The FAA is adopting a new airworthiness directive (AD) for all Airbus SAS Model A330-200, -200F, and -300 series airplanes. This AD was prompted by a determination that new or more restrictive airworthiness limitations are necessary. This AD requires revising the existing maintenance or inspection program, as applicable, to incorporate new or more restrictive airworthiness limitations. The FAA is issuing this AD to address the unsafe condition on these products.

DATES: This AD is effective November 29, 2019.

The Director of the Federal Register approved the incorporation by reference of certain publications listed in this AD as of November 29, 2019.

ADDRESSES: For service information identified in this final rule, contact Airbus SAS, Airworthiness Office—EAW, Rond-Point Emile Dewoitine No: 2, 31700 Blagnac Cedex, France; telephone +33 5 61 93 36 96; fax +33 5 61 93 44 51; email account.airworth-eas@airbus.com; internet http://www.airbus.com. You may view this service information at the FAA, Transport Standards Branch, 2200 South 216th St., Des Moines, WA. For information on the availability of this material at the FAA, call 206-231-3195. It is also available on the internet at http://www.regulations.gov by searching for and locating Docket No. FAA-2019-0523.

Examining the AD Docket

You may examine the AD docket on the internet at http://www.regulations.gov by searching for and locating Docket No. FAA-2019-0523; or in person at Docket Operations between 9 a.m. and 5 p.m., Monday through Friday, except Federal holidays. The AD docket contains this final rule, the regulatory evaluation, any comments received, and other information. The address for Docket Operations is U.S. Department of Transportation, Docket Operations, M-30, West Building Ground Floor, Room W12-140, 1200 New Jersey Avenue SE, Washington, DC 20590.

FOR FURTHER INFORMATION CONTACT: Vladimir Ulyanov, Aerospace Engineer, International Section, Transport Standards Branch, FAA, 2200 South 216th St., Des Moines, WA 98198; telephone and fax 206-231-3229.

SUPPLEMENTARY INFORMATION:

Discussion

The European Union Aviation Safety Agency (EASA), which is the Technical Agent for the Member States of the European Union, has issued EASA AD 2019-0049, dated March 11, 2019 (referred to after this as the Mandatory Continuing Airworthiness Information, or “the MCAI”), to correct an unsafe condition for all Airbus SAS Model A330-200, -200F, and -300 series airplanes. You may examine the MCAI in the AD docket on the internet at http://www.regulations.gov by searching for and locating Docket No. FAA-2019-0523.

The FAA issued a notice of proposed rulemaking (NPRM) to amend 14 CFR part 39 by adding an AD that would apply to all Airbus SAS Model A330-200, -200F, and -300 series airplanes. The NPRM published in the Federal Register on July 9, 2019 (84 FR 32661). The NPRM was prompted by a determination that new or more restrictive airworthiness limitations are necessary. The NPRM proposed to require revising the existing maintenance or inspection program, as applicable, to incorporate new or more restrictive airworthiness limitations. The FAA is issuing this AD to address a safety-significant latent failure (that is not annunciated) that, in combination with one or more other specific failures or events, could result in a hazardous or catastrophic failure condition. See the MCAI for additional background information.

Comments

The FAA gave the public the opportunity to participate in developing this final rule. The following presents the comments received on the NPRM and the FAA's response to each comment.

Request To Add Service Information

American Airlines (AAL) asked that the proposed AD be revised to include Airbus A330 Airworthiness Limitations Section (ALS) Part 3—Certification Maintenance Requirements (CMR), Variation 6.1, dated June 28, 2019, as an additional source of service information. AAL stated that the variation document provides relieving compliance times for certain tasks. AAL pointed out that an alternative method of compliance (AMOC) for AD 2016-26-05, Amendment 39-18763 (82 FR 1170, January 5, 2017) (“AD 2016-26-05”) (AMOC AIR-676-19-016, dated November 2, 2018), has been approved to allow incorporation of the variation document into AAL's maintenance program as acceptable for compliance with the requirements of paragraph (g) of the proposed AD.

The FAA agrees with the commenter's request for the reason provided. Paragraph (g) of this AD has been revised to include Airbus A330 ALS Part 3—Certification Maintenance Requirements (CMR), Variation 6.1, dated June 28, 2019, as an additional source of service information.

Request To Allow the Use of Future Revisions of Service Information

Delta Airlines (DAL) asked that the proposed AD be revised to allow the use of future revisions of the service information. DAL noted that since the FAA has started to instruct operators to refer to the EASA AD to comply with the FAA AD, it recommends that the FAA include a paragraph that resolves this issue by referring to the EASA AD. DAL added that the EASA AD allows the use of future revisions of service information.

The FAA acknowledges the commenter's observation regarding the FAA's new “IBR the MCAI” process, which uses EASA ADs as the primary source of information for compliance with corresponding FAA ADs. However, the FAA currently only uses the new “IBR the MCAI” process with certain MCAI ADs (primarily those with service bulletins as the primary source of information). When the Airbus A330 Airworthiness Limitations Section is revised, and EASA issues an AD, the FAA will consider drafting the corresponding FAA AD as an “IBR the MCAI” AD. Thus, all provisions specified in the EASA AD would apply to the corresponding FAA AD.

Based on the information above, the FAA does not agree with the commenter's request to allow the use of future revisions of the service information. The FAA may not refer to any document that does not yet exist in an AD. To allow operators to use later revisions of the referenced document (issued after AD publication), the most expeditious approach would be for operators to request approval to use later revisions as an alternative method of compliance with this AD, under the provisions of paragraph (j)(1) of this AD. The alternative would be for the FAA to revise the AD to reference specific later revisions, which would take longer and consume more resources. This AD has not been revised regarding this issue.

Conclusion

The FAA reviewed the relevant data, considered the comment received, and determined that air safety and the public interest require adopting this final rule with the change described previously and minor editorial changes. The FAA has determined that these minor changes:

• Are consistent with the intent that was proposed in the NPRM for addressing the unsafe condition; and

• Do not add any additional burden upon the public than was already proposed in the NPRM.

The FAA also determined that these changes will not increase the economic burden on any operator or increase the scope of this final rule.

Related Service Information Under 1 CFR Part 51

Airbus SAS has issued the following service information.

• A330 Airworthiness Limitations Section (ALS) Part 3—Certification Maintenance Requirements (CMR), Revision 06, dated October 15, 2018. This service information describes maintenance instructions and airworthiness limitations, including updated inspections and intervals, to be incorporated into the existing maintenance or inspection program.

• A330 ALS Part 3—Certification Maintenance Requirements (CMR), Variation 6.1, dated June 28, 2019. This service information describes maintenance instructions and airworthiness limitations, and increases the flight cycle inspection intervals to 12,000 flight hours.

This service information is reasonably available because the interested parties have access to it through their normal course of business or by the means identified in the ADDRESSES section.

Costs of Compliance

The FAA estimates that this AD affects 107 airplanes of U.S. registry. The FAA estimates the following costs to comply with this AD:

The FAA has determined that revising the existing maintenance or inspection program takes an average of 90 work-hours per operator, although the agency recognizes that this number may vary from operator to operator. In the past, the FAA has estimated that this action takes 1 work-hour per airplane. Since operators incorporate maintenance or inspection program changes for their affected fleet(s), the FAA has determined that a per-operator estimate is more accurate than a per-airplane estimate. Therefore, the FAA estimates the total cost per operator to be $7,650 (90 work-hours × $85 per work-hour).

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes and associated appliances to the Director of the System Oversight Division.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2019-21-02 Airbus SAS: Amendment 39-19768; Docket No. FAA-2019-0523 Product Identifier 2019-NM-050-AD.

(a) Effective Date

This AD is effective November 29, 2019.

(b) Affected ADs

This AD affects AD 2016-26-05, Amendment 39-18763 (82 FR 1170, January 5, 2017) (“AD 2016-26-05”).

(c) Applicability

This AD applies to Airbus SAS Model A330-201, -202, -203, -223, -223F, -243, -243F, -301, -302, -303, -321, -322, -323, -341, -342, and -343 airplanes, certificated in any category, with an original certificate of airworthiness or original export certificate of airworthiness issued on or before October 15, 2018.

(d) Subject

Air Transport Association (ATA) of America Code 05, Time Limits/Maintenance Checks.

(e) Reason

This AD was prompted by a determination that new or more restrictive airworthiness limitations are necessary. The FAA is issuing this AD to address a safety-significant latent failure (that is not annunciated) that, in combination with one or more other specific failures or events, could result in a hazardous or catastrophic failure condition.

(f) Compliance

Comply with this AD within the compliance times specified, unless already done.

(g) Maintenance or Inspection Program Revision

Within 90 days after the effective date of this AD, revise the existing maintenance or inspection program, as applicable, to incorporate the information specified in Airbus A330 Airworthiness Limitations Section (ALS) Part 3—Certification Maintenance Requirements (CMR), Revision 06, dated October 15, 2018, as supplemented by Airbus A330 ALS Part 3—Certification Maintenance Requirements (CMR), Variation 6.1, dated June 28, 2019. The initial compliance times for doing the tasks is at the time specified in Airbus A330 Airworthiness Limitations Section (ALS) Part 3—Certification Maintenance Requirements (CMR), Revision 06, dated October 15, 2018, as supplemented by Airbus A330 ALS Part 3—Certification Maintenance Requirements (CMR), Variation 6.1, dated June 28, 2019, or within 90 days after the effective date of this AD, whichever occurs later.

(h) No Alternative Actions or Intervals

After the existing maintenance or inspection program has been revised as required by paragraph (g) of this AD, no alternative actions (e.g., inspections) or intervals may be used unless the actions and intervals are approved as an alternative method of compliance (AMOC) in accordance with the procedures specified in paragraph (j)(1) of this AD.

(i) Terminating Action for AD 2016-26-05

Accomplishing the actions required by this AD terminates all requirements of AD 2016-26-05.

(j) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (k)(2) of this AD. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain corrective actions from a manufacturer, the action must be accomplished using a method approved by the Manager, International Section, Transport Standards Branch, FAA; or the European Union Aviation Safety Agency (EASA); or Airbus SAS's EASA Design Organization Approval (DOA). If approved by the DOA, the approval must include the DOA-authorized signature.

(k) Related Information

(1) Refer to Mandatory Continuing Airworthiness Information (MCAI) AD 2019-0049, dated March 11, 2019, for related information. This MCAI may be found in the AD docket on the internet at http://www.regulations.gov by searching for and locating Docket No. FAA-2019-0523.

(2) For more information about this AD, contact Vladimir Ulyanov, Aerospace Engineer, International Section, Transport Standards Branch, FAA, 2200 South 216th St., Des Moines, WA 98198; telephone and fax 206-231-3229.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus A330 Airworthiness Limitations Section (ALS) Part 3—Certification Maintenance Requirements (CMR), Revision 06, dated October 15, 2018.

(ii) Airbus A330 ALS Part 3—Certification Maintenance Requirements (CMR), Variation 6.1, dated June 28, 2019.

(3) For service information identified in this AD, contact Airbus SAS, Airworthiness Office—EAW, Rond-Point Emile Dewoitine No: 2, 31700 Blagnac Cedex, France; telephone +33 5 61 93 36 96; fax +33 5 61 93 44 51; email account.airworth-eas@airbus.com; internet http://www.airbus.com.

(4) You may view this service information at the FAA, Transport Standards Branch, 2200 South 216th St., Des Moines, WA. For information on the availability of this material at the FAA, call 206-231-3195.

(5) You may view this service information that is incorporated by reference at the National Archives and Records Administration (NARA). For information on the availability of this material at NARA, email fedreg.legal@nara.gov, or go to: www.archives.gov/federal-register/cfr/ibr-locations.html.

Issued in Des Moines, Washington, on October 18, 2019.
Michael Kaszycki,
Acting Director, System Oversight Division, Aircraft Certification Service.

[FR Doc. 2019-23284 Filed 10-24-19; 8:45 am]

BILLING CODE 4910-13-P